DEPARTMENT OF TRANSPORTATION

National Highway Traffic Safety Administration

[Docket No. NHTSA-2024-0041]

Agency Information Collection Activities; Notice and Request for Comment; 5-Star Safety Ratings Label Quantitative Concept Testing

AGENCY: National Highway Traffic Safety Administration (NHTSA), Department of Transportation (DOT).

ACTION: Notice and request for comments on approval of a new collection of information.

SUMMARY: NHTSA invites public comments about our intention to request approval from the Office of Management and Budget (OMB) for a new collection of information. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on consumer market research regarding the 5-Star Safety Ratings section of the Monroney label.

DATES: Comments must be submitted on or before May 6, 2025.

ADDRESSES: You may submit comments identified by the Docket No. NHTSA-2024-0041 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Mike Joyce, Marketing Specialist, Office of Communications and Consumer Information (NCO-0200), National Highway Traffic Safety Administration, 1200 New Jersey Ave. SE, W52-238, Washington, DC 20590. Mike Joyce's phone number is 202-366-5600 and his email address is Mike.Joyce@dot.gov.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: 5-Star Safety Ratings Label Quantitative Concept Testing.

OMB Control Number: New.

Form Number(s): 2026, 2027, 2028.

Type of Request: Request for approval of a new information collection.

Type of Review Requested: Regular.

Requested Expiration Date of Approval: 3 years from date of approval.

Summary of the Collection of Information: The National Highway Traffic Safety Administration (NHTSA) seeks to obtain critical information that will allow NHTSA and the New Car Assessment Program (NCAP) to fulfill a congressional mandate to improve highway traffic safety. NCAP is responsible for providing consumers with important safety information that will assist them in their vehicle purchase decisions. The proposed research is intended to gather necessary data to guide the redesign of the Government 5-Star Safety Ratings section of the Monroney label and enhance the usefulness of that safety rating information.

The research study will include two components, both being one-time collections. The first component will involve a series of online webcam interviews that will collect qualitative feedback that will be used to improve the content included in the second component, a quantitative survey. The quantitative survey will be administered online and by phone (and potentially supplemented by mail if needed). Participants in the quantitative survey will be asked to evaluate design concepts that contain new information and improvements to the Government 5-Star Safety Ratings section of the Monroney label. The intent is to identify the clearest, most communicative and helpful way to display information related to vehicle safety. NHTSA will use the findings from this research to support planned changes to the label requirements and to inform future consumer communications on vehicle safety ratings and safety technology systems performance assessments to assist the public when making vehicle purchasing decisions.

The qualitative portion of the research will consist of a cognitive test—nine (9) 60-minute webcam interviews among participants who will take a draft version of the quantitative survey while narrating their experience aloud. Feedback will be used to refine question-wording and response options in the survey instrument, ensuring that each question is clear, consistently understood and offers an appropriate range of responses that can be selected.

The quantitative survey will interview 1,000 consumer participants. This research aims to test label redesign concepts that have been informed by feedback received in a previous qualitative research study and will validate and prioritize other insights around consumer consideration of safety information in the purchasing process. The survey will achieve the following objectives:

(1) Evaluate the relative weight consumers give to different kinds of safety information in evaluating the overall safety of a vehicle;

(2) Evaluate the relative weight consumers give to different kinds of safety information in the purchasing decision;

(3) Assess the best words or phrases to use on the label when communicating about crash protection, safety technology, and vulnerable road users safety; and,

(4) Assess current familiarity and use of the safety label in making vehicle safety purchasing decisions.

Description of the Need for the Information and Proposed Use of the Information: This collection of information will allow NHTSA to obtain critical information to assist the agency in fulfilling the 2015 Fixing America's Surface Transportation (FAST) Act's requirement that NHTSA issue a rule to ensure the crash avoidance information is provided next to the crashworthiness information on vehicle window stickers.¹ Specifically, the data from this collection will be used to not only enhance the consumer understanding of NHTSA's vehicle safety ratings and advanced driver assistance systems performance assessments, but also guide the development of communications that will help consumers as they consider this information in their vehicle purchase decisions.

¹ Fixing America's Surface Transportation Act, Sec. 24322. https://www.congress.gov/114/statute/STATUTE-129/STATUTE-129-Pg1312.pdf.

This research is necessary because NHTSA currently does not have consumer feedback on the concept designs for the potential updates to the Monroney label. Although qualitative feedback has been gathered on previous concept iterations, a quantitative survey will allow NHTSA to gain feedback on the current concept designs and to obtain feedback from a broader range of consumers than would be possible using qualitative methodologies alone.

There is a growing interest in vulnerable road users and the past research only explored consumer reaction to vulnerable road users at a high level. There is a need to conduct this additional research to better understand how consumers think about vulnerable road users and identify effective ways to communicate about the importance of vulnerable road users in understanding the safety of a vehicle. Additionally, the new concept designs include a vulnerable road users safety rating which was not included in previous research.

Key additional insights we anticipate from this study also cannot be gleaned from previous research. This is due to several factors: first, previous research has not quantitatively assessed the relative weight consumers give to different kinds of safety information, either in evaluating the overall safety of the vehicle or in the purchasing decision; second, the level and prevalence of driver assistance technology have increased, meaning that previous assessments of consumer prioritization of vehicle safety technology need to be reassessed.

Affected Public: Members of the public 18 years of age or older with a driver's license, who are a decision-maker for vehicle purchases in their household, have either purchased a vehicle in the past six months or plan to do so within the next 12 months.

Estimated Number of Respondents: 10,000.

Frequency: One time.

Estimated Total Annual Burden Hours: 708.

Nine respondents are expected to participate in the qualitative phase (cognitive test of the survey instrument described in the Summary of the Collection of Information section) of research. The recruiter will need to screen 180 participants to obtain the desired target of 18 participants who qualify to participate in the cognitive test. Based on past experience, of those who qualify, half or more will be available and interested in participating. Nine respondents who are available and agree to participate will complete the 60-minute cognitive test.

For the quantitative phase, respondents will complete a 14-minute online survey (an estimated 3 minutes of the survey will be screening questions). Approximately 10,000 respondents will be screened to identify 1,000 who will qualify to answer the full online survey. Therefore, the total annual estimated burden imposed by this collection is approximately 708 hours.

Research phase | Respondents | Estimated burden per response (min) | Total burden hours (rounded)
Qual Screener Responses | 180 | N/A | N/A
Not qualified | 162 | 5 | 14
Qualified, not available or interested | 9 | 5 | 1
Qualified and scheduled | 9 | 5 | 1
Qualitative Cognitive Testing | 9 | 60 | 9
Quantitative Screening | 10,000 | 3 | 500
Quantitative Fielding | 1,000 | 11 | 183
Total Burden |  |  | 708

Estimated Total Annual Burden Cost: $32,702.2 3

² This burden estimate uses a fully loaded hourly labor cost of $46.29—a base rate of $35.61 with an additional 30% added to account for benefits. These numbers are obtained from Bureau of Labor Statistics (accessed January 2024): https://www.bls.gov/news.release/empsit.t19.htm.

³ Recommendation to include costs of benefits in burden hours calculations is from: Bureau of Labor and Statistics' Economic News Release—Employer Costs for Employee Compensation Summary (December 2023). https://www.bls.gov/news.release/ecec.nr0.htm.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Issued on March 4, 2025.
Juliette Marie Vallese,
Associate Administrator, Office of Communications and Consumer Information.

[FR Doc. 2025-03726 Filed 3-6-25; 8:45 am]

BILLING CODE 4910-59-P